ENVIRONMENTAL PROTECTION AGENCY

[EPA-HQ-OPP-2009-1017; FRL-8889-7]

Product Cancellation Order for Certain Pesticide Registrations

AGENCY: Environmental Protection Agency (EPA).

ACTION: Notice.

SUMMARY: This notice announces EPA's order for the cancellations, voluntarily requested by the registrants and accepted by the Agency, of the products listed in Tables 1, 2, and 3 of Unit II., pursuant to section 6(f)(1) of the Federal Insecticide, Fungicide, and Rodenticide Act (FIFRA), as amended. This cancellation order follows an August 5, 2011 Federal Register Notice of Receipt of Requests from the registrants listed in Table 4 of Unit II. to voluntarily cancel these product registrations. In the August 5, 2011 notice, EPA indicated that it would issue an order implementing the cancellations, unless the Agency received substantive comments within the 30-day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective September 28, 2011.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; fax number: (703) 308-8090; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2009-1017. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the cancellation, as requested by registrants, of 45 products registered under FIFRA section 3. These registrations are listed in sequence by registration number in Tables 1, 2, and 3 of this unit.

Table 1—Product Cancellations
EPA Reg. No. | Product name | Active ingredients
000239-02373 | Bug-Geta Snail and Slug Pellets | Metaldehyde
000279-03053 | Command 4EC Herbicide | Clomazone
000279-03071 | Command 4E Herbicide | Clomazone
000538-00199 | Scotts Turf Manager for St. Augustine Grass | Paclobutrazol
000538-00201 | Scotts Turf Manager II | Paclobutrazol
001270-00254 | Zep FS CIP Acid Sanitizer | Phosphoric Acid Dodecybenzenesulfonic acid
001448-00047 | Busan 52 | Carbamodithioic acid, methyl-, monopotassium salt
001448-00389 | D-33-5 | Potassium dimethyldithiocarbamate
001448-00390 | D-33-6 | Potassium dimethyldithiocarbamate
001448-00391 | D-33-7 | Potassium dimethyldithiocarbamate
001448-00392 | D-33-8 | Potassium dimethyldithiocarbamate
001448-00429 | Diald 25P | Glutaraldehyde
001448-00430 | Diald 15P | Glutaraldehyde
001448-00431 | Diald 45P | Glutaraldehyde
002596-00132 | Hartz Sumithrin Carpet Powder | MGK-264 Sumithrin
002724-00697 | Permanone H and G Insect Control | Permethrin
004822-00531 | Raid 1000 | Triethylene glycol
006959-00082 | Cessco Accudose Aerosol Insecticide | Pyrethrins Piperonyl butoxide
047000-00171 | SMCP Pyrethrum Dust 1% | Pyrethrins
061483-00086 | 10% Permectrin Pour-On Insecticide | Permethrin
069592-00002 | Laginex AS | Lagenidium giganteum, mycelium or oospores
069592-00003 | Technical Laginex | Lagenidium giganteum, mycelium or oospores
070506-00202 | Penncozeb EG Raincote | Mancozeb
080490-00002 | Promeris Spot on for Dogs | Amitraz 4-{(2Z)-2-({[4-(Trifluoromethoxy) Anilino]Carbonyl}Hydrazono)-2-[3-(Trifluoromethyl) Phenyl]Ethyl}Benzonitrile Metaflumizone
080490-00003 | Promeris Spot on for Cats | 4-{(2Z)-2-({[4-(Trifluoromethoxy) Anilino]Carbonyl}Hydrazono)-2-[3-(Trifluoromethyl) Phenyl]Ethyl}Benzonitrile Metaflumizone
080490-00004 | Promeris for Dogs—Flea Control | 4-{(2Z)-2-({4-(Trifluoromethoxy) Anilino]Carbonyl}Hydrazono)-2-[3-(Trifluoromethyl) Phenyl]Ethyl}Benzonitrile Metaflumizone
081598-00010 | Glyphosate Acid Technical | Glyphosate
083100-00029 | Glyphosate 62% Manufacturing Concentrate | Glyphosate-isopropylammonium
087650-00001 | Fipronil Technical | Fipronil
CA920028 | Devrinol 50-DF Selective Herbicide | Napropamide
CO100002 | Endigo ZC | Thiamethoxam lambda-Cythalothrin
ND900005 | Vitavax-200 Flowable Fungicide (Vitavax with Thiram) | Thiram Carboxin

Table 2—Product Cancellations Containing Methyl bromide or Chloropicrin
EPA Reg. No. | Product name | Active ingredients
005785-00017 | Chlor-O-Pic | Chloropicrin
005785-00025 | Terr-O-Gas 33 Preplant Soil Fumigant | Chloropicrin Methyl bromide
008536-00012 | Methyl Bromide 99.5% | Methyl bromide
CA900038 | Methyl Bromide 99.5% | Methyl bromide
CA900045 | Methyl Bromide 99.5% | Methyl bromide
CA910003 | Methyl Bromide 99.5% | Methyl bromide
CA910020 | Methyl Bromide 99.5% | Methyl bromide
CA970017 | Methyl Bromide 99.5% | Methyl bromide
ID070004 | MBC Concentrate Soil Fumigant | Methyl bromide

Table 3—Product Cancellations Containing Carbofuran
EPA Reg. No. | Product name | Active ingredients
000279-02712 | Furadan 10 G Insecticide/Nematicide | Carbofuran
000279-02876 | Furadan 4F Insecticide/Nematicide | Carbofuran
000279-03023 | Furadan 15 G Insecticide/Nematicide | Carbofuran
000279-03310 | Furadan LFR Insecticide/Nematicide | Carbofuran

Table 4 of this unit includes the names and addresses of record for all registrants of the products in Tables 1, 2, and 3 of this unit, in sequence by EPA company number. This number corresponds to the first part of the EPA registration numbers of the products listed in Tables 1, 2, and 3 of this unit.

Table 4—Registrants of Cancelled Products
EPA Co. No. | Company name and address
239 | The Scotts Company, P.O. Box 190, Marysville, OH 43040.
279 | FMC Corp. Agricultural Products Group, ATTN: Michael C. Zucker, 1735 Market St., Rm. 1978, Philadelphia, PA 19103.
538 | The Scotts Company, 14111 Scottslawn Rd., Marysville, OH 43041.
1270 | ZEP, Inc., 1310 Seaboard Industrial Blvd., NW., Atlanta, GA 30318.
1448 | Buckman Laboratories, Inc., 1256 North McLean Blvd., Memphis, TN 38108.
2596 | The Hartz Mountain Corp., 400 Plaza Dr., Secaucus, NJ 07094.
2724 | Wellmark International, 1501 E. Woodfield Rd., Suite 200 West, Schaumburg, IL 60173.
4822 | S.C. Johnson and Son Inc., 1525 Howe St., Racine, WI 53403.
5785 | Great Lakes Chem Corp., Agent: Chemtura Corporation, 1801 Highway 52 West, West Lafayette, IN 47906.
6959 | Cessco, Inc., 3609A River Rd., John's Island, SC 29455.
8536 | Soil Chemicals Corp., P.O. Box 782, Hollister, CA 95024.
47000 | Chem-Tech, Ltd., 4515 Fleur Dr., #303, Des Moines, IA 50321.
61483 | KMG-Bernuth, Inc., 9555 W. Sam Houston Pkwy South, Suite 600, Houston, TX 77099.
69592 | Agraquest, Inc., 1540 Drew Ave., Davis, CA 95618-6320.
70506 | United Phosphorus, Inc., 630 Freedom Business Center, Suite 402, King of Prussia, PA 19406.
80490 | Fort Dodge Animal Health, 7000 Portage Rd., KZO 300-403 SW., Kalamazoo, MI 49001.
81598 | Rotam Limited Agent: IPM Resources LLC, 4032 Crockers Lake Blvd., Suite 818, Sarasota, FL 43238.
83100 | Rotam Agrochemical Company, Ltd., Agent: IPM Resources LLC, 4032 Crockers Lake Blvd., Suite 818, Sarasota, FL 43238.
87650 | Fipronex Solutions, Inc., Agent: Technology Sciences Group, Inc., 1150 18th St., NW., Suite 1000, Washington, DC 20036.
CA900038;CA900045;CA910003; CA910020;CA970017 | Soil Chemicals Corp., P.O. Box 782, Hollister, CA 95024.
CA920028 | Easter Lily Research Foundation, P.O. Box 907, Brookings, OR 97415.
CO100002 | Syngenta Crop Protection, LLC, P.O. Box 18300, Greensboro, NC 27419-8300.
ID070004 | TriCal, Inc., P.O. Box 1327, Hollister, CA 95024-1327.
ND900005 | Chemtura Corp., 199 Benson Rd. (2-5), Middlebury, CT 06749.

III. Summary of Public Comments Received and Agency Response to Comments

During the public comment period provided, EPA received no comments in response to the August 5, 2011 Federal Register notice (76 FR 47579) (FRL-8882-9) announcing the Agency's receipt of the requests for voluntary cancellations of products listed in Tables 1, 2, and 3 of Unit II.

IV. Cancellation Order

Pursuant to FIFRA section 6(f), EPA hereby approves the requested cancellations of the registrations identified in Tables 1, 2, and 3 of Unit II. Accordingly, the Agency hereby orders that the product registrations identified in Tables 1, 2, and 3 of Unit II. are cancelled. The effective date of the cancellations that are subject of this notice is September 28, 2011. Any distribution, sale, or use of existing stocks of the products identified in Tables 1, 2, and 3 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be cancelled or amended to terminate one or more uses. FIFRA further provides that, before acting on the request, EPA must publish a notice of receipt of any such request in the Federal Register. Thereafter, following the public comment period, the EPA Administrator may approve such a request. The notice of receipt for this action was published for comment in the Federal Register issue of August 5, 2011. The comment period closed on September 6, 2011.

VI. Provisions for Disposition of Existing Stocks

Existing stocks are those stocks of registered pesticide products that are currently in the United States and that were packaged, labeled, and released for shipment prior to the effective date of the cancellation action. Upon cancellation of the products identified in Tables 1, 2, and 3 of Unit II., EPA will allow existing stocks provisions as follows:

A. Registrations Listed in Table 1 of Unit II Except Nos. 080490-00002, 080490-00003, 080490-00004

The Agency will allow registrants to sell and distribute existing stocks of these products until September 28, 2012. Thereafter, registrants are prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the cancelled products.

B. Registration Nos. 080490-00002, 080490-00003, 080490-00004

The Agency will allow registrants to sell and distribute existing stocks of these products through September 30, 2011. Thereafter, registrants are prohibited from selling or distributing these pesticide products, except for export consistent with FIFRA section 17 or for proper disposal. Persons other than registrants will generally be allowed to sell, distribute, or use existing stocks until such stocks are exhausted, provided that such sale, distribution, or use is consistent with the terms of the previously approved labeling on, or that accompanied, the cancelled products.

C. Registrations Listed in Table 2 of Unit II

The effective date of cancellation of these products is September 28, 2011. The registrants are allowed to sell and distribute existing stocks until December 31, 2011. Thereafter, registrants are prohibited from selling or distributing these pesticide products, except for export consistent with FIFRA section 17 or for proper disposal.

Persons other than the registrant will be allowed to sell and distribute existing stocks through April 30, 2012. After this date, remaining existing stocks may be used until exhausted, provided that such use complies with the EPA-approved label and labeling of the product.

D. Registrations Listed in Table 3 of Unit II

The effective date of cancellation of these products is September 28, 2011. EPA will not allow the continued sale and distribution of existing stocks of these products after the effective date of this cancellation for several reasons. First, there are currently no tolerances in effect for any of the food or feed crops associated with the domestic use of these products, and there have been none since the 2009 tolerance revocations took effect on December 31, 2009 (May 15, 2009, 74 FR 23046; FRL-8413-3). In addition, the Agency believes that little, if any existing stock remains in the hands of retailers, based on the sole registrant's repeated representation that no carbofuran products have been released for shipment since January 2010, and that they have offered to buy back unused carbofuran products. Consequently, sale of existing stocks of carbofuran is prohibited as of September 28, 2011. Users may only use those carbofuran products labeled for non-food use (ornamentals, spinach grown for seed, and pine seedlings) on those specific crops and in accordance with all geographical restrictions. Any food or feed crops with carbofuran residues after this date will be considered adulterated and subject to seizure.

List of Subjects

Environmental protection, Pesticides and pests.

Dated: September 21, 2011.
Richard P. Keigwin, Jr.,
Director, Pesticide Re-evaluation Division, Office of Pesticide Programs.

[FR Doc. 2011-24832 Filed 9-27-11; 8:45 am]

BILLING CODE 6560-50-P